DEPARTMENT OF COMMERCE

International Trade Administration

Associated Universities, Inc.; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW, Washington, DC.

Docket Number: 02-016. Applicant: Associated Universities, Inc., National Radio Astronomy Observatory, Charlottesville, VA 22903. Instrument: Atacama Large Millimeter Array (ALMA) Radio Telescope. Manufacturer: Vertex Antennentechnik GmbH, Germany. Intended Use: See notice at 67 FR 35961, May 22, 2002.

Comments: None received. Decision: Approved. No instrument of equivalent scientific value to the foreign instrument, for such purposes as it is intended to be used, is being manufactured in the United States. Reasons: The foreign instrument provides: (1) Extremely high surface precision (25.0 μm) and pointing accuracy (0.6 arcseconds), (2) a structure immune to changes in temperature, (3) high speed motion and (4) operation from 30-950 GHz. The Harvard-Smithsonian Center for Astrophysics advised July 30, 2002 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-20078 Filed 8-7-02; 8:45 am]

BILLING CODE 3510-DS-P